CONSUMER PRODUCT SAFETY COMMISSION

Notice of Teleconference of the Chronic Hazard Advisory Panel on Phthalates and Phthalate Substitutes

AGENCY: Consumer Product Safety Commission.

ACTION: Notice of meeting.

SUMMARY: The Consumer Product Safety Commission (“CPSC” or “Commission”) is announcing a teleconference of the Chronic Hazard Advisory Panel (CHAP) on phthalates and phthalate substitutes. The Commission appointed this CHAP on April 14, 2010, to study the effects on children's health of all phthalates and phthalate alternatives, as used in children's toys and child care articles, pursuant to section 108 of the Consumer Product Safety Improvement Act of 2008 (CPSIA) (Pub. L. 110-314). The CHAP will discuss its progress toward completing its analysis of potential risks from phthalates and phthalate substitutes.

DATES: The teleconference will take place from 11:30 a.m. to 1 p.m. EST (15:30 to 17:00 GMT) on Monday, December 19, 2011. Interested members of the public may listen to the CHAP's discussion. Members of the public will not have the opportunity to ask questions, comment, or otherwise participate in the teleconference. Interested parties should contact the CPSC project manager, Michael Babich, by email (mbabich@cpsc.gov) for call-in instructions no later than Wednesday, December 14, 2011.

FOR FURTHER INFORMATION CONTACT: To request access to the teleconference, contact the project manager by email at mbabich@cpsc.gov, no later than Wednesday, December 14, 2011. For all other questions, contact: Michael Babich, Directorate for Health Sciences, Consumer Product Safety Commission, Bethesda, MD 20814; telephone (301) 504-7253; email mbabich@cpsc.gov.

SUPPLEMENTARY INFORMATION: Section 108 of the CPSIA permanently prohibits the sale of any “children's toy or child care article” containing more than 0.1 percent of each of three specified phthalates: Di- (2-ethylhexyl) phthalate (DEHP), dibutyl phthalate (DBP), and benzyl butyl phthalate (BBP). Section 108 of the CPSIA also prohibits, on an interim basis, the sale of any “children's toy that can be placed in a child's mouth” or “child care article” containing more than 0.1 percent of each of three additional phthalates: diisononyl phthalate (DINP), diisodecyl phthalate (DIDP), and di-n-octyl phthalate (DnOP).

Moreover, section 108 of the CPSIA requires the Commission to convene a CHAP “to study the effects on children's health of all phthalates and phthalate alternatives as used in children's toys and child care articles.” The CPSIA requires the CHAP to complete an examination of the full range of phthalates that are used in products for children and:

• Examine all of the potential health effects (including endocrine-disrupting effects) of the full range of phthalates;

• Consider the potential health effects of each of these phthalates, both in isolation and in combination with other phthalates;

• Examine the likely levels of children's, pregnant women's, and others' exposure to phthalates, based upon a reasonable estimation of normal and foreseeable use and abuse of such products;

• Consider the cumulative effect of total exposure to phthalates, both from children's products and from other sources, such as personal care products;

• Review all relevant data, including the most recent, best-available, peer-reviewed, scientific studies of these phthalates and phthalate alternatives that employ objective data-collection practices or employ other objective methods;

• Consider the health effects of phthalates not only from ingestion, but also as a result of dermal, hand-to-mouth, or other exposure;

• Consider the level at which there is a reasonable certainty of no harm to children, pregnant women, or other susceptible individuals and their offspring, considering the best available science, and using sufficient safety factors to account for uncertainties regarding exposure and susceptibility of children, pregnant women, and other potentially susceptible individuals; and

• Consider possible similar health effects of phthalate alternatives used in children's toys and child care articles.

The CPSIA contemplates completion of the CHAP's examination within 18 months of the panel's appointment on April 14, 2010. The CHAP must review prior work on phthalates by the Commission, but it is not to be considered determinative because the CHAP's examination must be conducted de novo.

The CHAP must make recommendations to the Commission regarding any phthalates (or combinations of phthalates), in addition to those identified in section 108 of the CPSIA or phthalate alternatives that the panel determines should be prohibited from use in children's toys or child care articles or otherwise restricted. The CHAP members were selected by the Commission from scientists nominated by the National Academy of Sciences.

See 15 U.S.C. 2077, 2030(b).

The CHAP met previously in April, July, and December 2010, and in March, July, and November 2011, at the CPSC's offices in Bethesda, MD, and by teleconference in November 2010 and September 2011. The CHAP heard testimony from interested parties at the July 2010 and the November 2011 meetings. The December 2011 conference call will include discussion of the CHAP's progress in preparing a final report. There will not be any opportunity for public comment during the conference call.

Dated: November 29, 2011.
Todd A. Stevenson,
Secretary, Consumer Product Safety Commission.

[FR Doc. 2011-31007 Filed 12-1-11; 8:45 am]

BILLING CODE 6355-01-P